DEPARTMENT OF HEALTH AND HUMAN SERVICES

National Institutes of Health

National Institute on Alcohol Abuse and Alcoholism; Notice of Meeting

Pursuant to section 10(d) of the Federal Advisory Committee Act, as amended (5 U.S.C. Appenfix 2), notice is hereby given of a meeting of the Board of Scientific Counselors, NIAAA.

The meeting will be open to the public as indicated below, with attendance limited to space available. Individuals who plan to attend and need special assistance, such as sign language interpretation or other reasonable accommodations, should notify the Contact Person listed below in advance of the meeting. The meeting will be closed to the public as indicated below in accordance with the provisions set forth in section 552b(c)(6), Title 5 U.S.C., as amended for the review, discussion, and evaluation of individual intramural programs and projects conducted by the National Institute on Alcohol Abuse and Alcoholism, including consideration of personnel qualifications and performance, and the competence of individual investigators, the disclosure of which would constitute a clearly unwarranted invasion of personal privacy.

Name of Committee: Board of Scientific Counselors, NIAA.

Date: May 31-June 1, 2006.

Open: May 31, 2006, 7:45 a.m. to 8 a.m.

Agenda: Personal qualifications and performance, and competence of individual investigators.

Place: National Institutes of Health, 5635 Fishers Lane, Rooms 508/509, Bethesda, MD 20892.

Closed: May 31, 2006, 8 a.m. to 7 p.m.

Agenda: To review and evaluate review sections of the Laboratory of Molecular Physiology (LMP), and the Laboratory for Integrative Neuroscience (LIN).

Place: National Institutes of Health, 5635 Fishers Lane, Rooms 508/509, Bethesda, MD 20892.

Closed: June 1, 2006, 8 a.m. to 11:15 a.m.

Agenda: To review and evaluate sections of the Laboratory of Molecular Physiology (LMP), and the Laboratory for Integrative Neuroscience (LIN).

Place: National Institutes of Health, 5635 Fishers Lane, Rooms 508/509, Bethesda, MD 20892.

Contact Person: Brenda L. Sandler, Chief, Administrative Services Branch, NIAAA, 5635 Fishers Lane, MSC 9304, Bethesda, MD 20892-9304. 301-402-9386. sandlerb@niaaa.nih.gov.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS).

Dated: March 29, 2006.
Anna P. Snouffer,
Acting Director, Office of Federal Advisory Committee Policy.

[FR Doc. 06-3220 Filed 4-4-06; 8:45 am]

BILLING CODE 4410-01-M